NUCLEAR REGULATORY COMMISSION

[Docket Nos. 72-10; NRC-2013-0251]

Northern States Power Company—Minnesota; Prairie Island Nuclear Generating Plant Independent Spent Fuel Storage Installation

AGENCY: Nuclear Regulatory Commission.

ACTION: License renewal; issuance.

SUMMARY: The U.S. Nuclear Regulatory Commission (NRC) has issued a renewed license to Northern States Power Company—Minnesota (NSPM) for its Materials License SNM-2506 for the receipt, possession, transfer, and storage of spent fuel at the Prairie Island Nuclear Generating Plant (Prairie Island) Independent Spent Fuel Storage Installation (ISFSI), located in Goodhue County, Minnesota. The renewed license authorizes operation of the Prairie Island ISFSI in accordance with the provisions of the renewed license and its Technical Specifications (TS). The renewed license expires on October 31, 2053.

DATES: December 16, 2015.

ADDRESSES: Please refer to Docket ID NRC-2013-0251 when contacting the NRC about the availability of information regarding this document. You may obtain publicly-available information related to this document using any of the following methods:

• Federal Rulemaking Web site: Go to http://www.regulations.gov and search for Docket ID NRC-2013-0251. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” Section II of this document.

• NRC's PDR: You may examine and purchase copies of public documents at the NRC's PDR, Room O1-F21, One White Flint North, 11555 Rockville Pike, Rockville, Maryland 20852.

FOR FURTHER INFORMATION CONTACT: John-Chau Nguyen, Office of Nuclear Material Safety and Safeguards, U.S. Nuclear Regulatory Commission, Washington, DC 20555; telephone: 301-415-0262; email: John-chau.Nguyen@nrc.gov.

SUPPLEMENTARY INFORMATION:

I. Discussion

Based upon the application dated October 20, 2011, as supplemented February 29, 2012, April 26, 2012, July 26, 2013, July 31, 2014, September 3, 2014, and October 12, 2015, the NRC has issued a renewed license to NSPM, for its Prairie Island ISFSI, located in Goodhue County, Minnesota. The renewed license authorizes and requires operation of the Prairie Island ISFSI in accordance with the provisions of the renewed license and its TS. The renewed license will expire on October 31, 2053. The NSPM's application for a renewed license complies with the standards and requirements of the Atomic Energy Act of 1954, as amended (the Act), and the NRC's rules and regulations. The NRC has made appropriate findings as required by the Act and the NRC's regulations in Chapter 1 of title 10 of the Code of Federal Regulations (10 CFR), and sets forth those findings in the renewed license. The agency afforded an opportunity for a hearing in the Notice of Opportunity for a Hearing published in the Federal Register on June 25, 2012 (77 FR 37937).

The NRC staff prepared a safety evaluation report for the renewal of the ISFSI license and concluded, based on that evaluation, the ISFSI will continue to meet the regulations in 10 CFR part 72. The NRC staff also prepared a draft environmental assessment (EA) and finding of no significant impact (FONSI) for the renewal of this license in November 19, 2013 (78 FR 69460). The final EA and FONSI, were published on July 1, 2015 (80 FR 37662). The NRC staff's consideration of the impacts of continued storage of spent nuclear fuel (as documented in NUREG-2157, “Generic Environmental Impact Statement for Continued Storage of Spent Fuel”) was included as an appendix to the EA. The NRC staff concluded that renewal of this ISFSI license will not have a significant impact on the quality of the human environment.

II. Availability of Documents

The following table includes the ADAMS accession numbers for the documents referenced in this notice. For additional information on accessing ADAMS, see the ADDRESSES section of this document.

Document | ADAMS accession No.
NSPM's application, dated October 20, 2011 | ML11304A068
Response to Request for Supplemental Information, dated February 29, 2012 | ML12065A073
Response to License Renewal Observations, dated April 26, 2012 | ML121170406
Response to First Request for Additional Information, dated July 26, 2013 | ML13210A272
Response to Second Request for Additional Information, dated July 31, 2014 | ML14234A463
Supplement to PINGP ISFSI License Renewal Application for Prairie Island Independent Spent Fuel Storage Installation- Revised Safety Analysis Report Information | ML14247A316
Supplement to PINGP ISFSI License Renewal Application-Revised LRA Appendix C | ML14282A814
NRC Environmental Assessment | ML15098A026
NRC Safety Evaluation Report | ML15336A230
Supplement to PINGP ISFSI License Renewal Application-AMP Rev 2 | ML15285A007
NUREG-2157, Generic Environmental Impact Statement for Continued Storage of Spent Fuel, Volume 1 | ML14196A105
NUREG-2157, Generic Environmental Impact Statement for Continued Storage of Spent Fuel, Volume 2 | ML14196A107

Dated at Rockville, Maryland, this 9th day of December 2015.
For the Nuclear Regulatory Commission.
Steve Ruffin,
Acting Chief, Spent Fuel Licensing Branch, Division of Spent Fuel Management, Office of Nuclear Material Safety and Safeguards.

[FR Doc. 2015-31636 Filed 12-15-15; 8:45 am]

BILLING CODE 7590-01-P